DEPARTMENT OF TRANSPORTATION

National Highway Traffic Safety Administration

[Docket No. NHTSA-2024-0098; Notice 1]

Ford Motor Company, Receipt of Petition for Decision of Inconsequential Noncompliance

AGENCY: National Highway Traffic Safety Administration (NHTSA), Department of Transportation (DOT).

ACTION: Receipt of petition.

SUMMARY: Ford Motor Company (Ford) has determined that certain model year (MY) 2018-2024 Ford and Lincoln motor vehicles do not fully comply with Federal Motor Vehicle Safety Standard (FMVSS) No. 101, Controls and Displays, FMVSS No. 105, Hydraulic and Electric Brake Systems, and FMVSS No. 135, Light Vehicle Brake Systems. Ford filed a noncompliance report dated September 13, 2024, and subsequently petitioned NHTSA (the “Agency”) on October 4, 2024, for a decision that the subject noncompliance is inconsequential as it relates to motor vehicle safety. This document announces receipt of Ford's petition.

DATES: Send comments on or before September 2, 2025.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Kelley Adams-Campos, General Engineer, NHTSA, Office of Vehicle Safety Compliance, (202) 366-7479.

SUPPLEMENTARY INFORMATION:

I. Overview: Ford determined that certain MY 2018-2024 Ford and Lincoln motor vehicles do not fully comply with paragraph S2 of and Table 1 FMVSS No. 101, Controls and Displays, paragraphs S2 and S5.3 of FMVSS No. 105, Hydraulic and Electric Brake Systems, and paragraphs S2 and S5.5 of FMVSS No. 135, Light Vehicle Brake Systems (49 CFR 571.101, 105, and 135).

Ford filed a noncompliance report dated September 13, 2024, pursuant to 49 CFR part 573, Defect and Noncompliance Responsibility and Reports. Ford petitioned NHTSA on October 4, 2024, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Ford's petition is published under 49 U.S.C. 30118 and 30120 and does not represent any agency decision or another exercise of judgment concerning the merits of the petition.

II. Vehicles Involved: Approximately 5,829 of the following Ford and Lincoln motor vehicles manufactured between November 2, 2017, and June 24, 2024, were reported by the manufacturer:

• MY 2018-2024 Ford F-150

• MY 2023 Ford F-150 Lightning

• MY 2022-2023 Ford Mustang Mach-E

• MY 2019-2023 Lincoln Nautilus

• MY 2023-2024 Lincoln Corsair

• MY 2018-2024 Ford Super Duty (F-250, F-350, F-450, F-550)

• MY 2019-2024 Ford Transit

• MY 2019 Ford Fusion

• MY 2019-2021 Ford E-Series

• MY 2019 Ford Edge

III. FMVSS Requirements: Paragraphs of FMVSS Nos. 101, 105, and 135 include the requirements relevant to this petition. Ford references the general purpose of FMVSS No. 101 as outlined in paragraph S2 and the Brake System Malfunction Indicator, which Ford explains is required to illuminate when a malfunction is detected within the braking system.

The petition also refers to FMVSS No. 105, paragraph S5.3 and FMVSS No. 135, paragraph S5.5, which require that a vehicle with hydraulic and electric brake systems (FMVSS No. 105) and light vehicle brake systems (FMVSS No. 135), respectively, be equipped with one or more visual indicator lamps that provide the driver with a warning in the event of specific brake system malfunctions.

IV. Noncompliance: Ford explains that the instrument panel of the subject vehicles displays a brake telltale that is configured to use the International Organization for Standardization (ISO)/Economic Commission for Europe (ECE) symbol “!” instead of text telltale symbol “BRAKE” required by the FMVSS.

V. Summary of Ford's Petition: The following views and arguments presented in this section, “V. Summary of Ford's Petition,” are the views and arguments provided by Ford. They have not been evaluated by the Agency and do not reflect the views of the Agency. Ford describes the subject noncompliance and contends that the noncompliance is inconsequential as it relates to motor vehicle safety.

Ford starts the petition by explaining the events that led to this noncompliance being discovered and its attempts to remedy the issue. Ford states that they were made aware of an issue with the brake telltales on the instrument panel of certain Ford and Lincoln vehicles exported to U.S. territories (Guam, Northern Mariana Islands, US Virgin Islands, Puerto Rico and American Samoa) by Ford's Critical Concern Review Group (CCRG) on April 18 and June 14, 2024. The vehicles were found to use the symbol for brake related issues on the instrument panel recognized by the ISO/ECE instead of the required “BRAKE” text telltale. In response to this finding, Ford issued “Stop Ship” orders to the Dearborn Truck Plant and Kansas City Assembly Plant assembling the F-150 model vehicles for U.S. territories on June 15, 2024, and to the Louisville Assembly Plant assembling Lincoln Corsair vehicles for the Guam and Puerto Rico markets on June 25, 2024.

Ford gives five reasons why the subject noncompliance is inconsequential to motor vehicle safety:

1. Ford states that the telltale on the subject vehicles meets all other requirements of the FMVSSs and will illuminate to alert drivers of braking system malfunctions. The ISO/ECE telltale still illuminates to alert the driver to any malfunction in the braking system and is in a position that is in “the driver's direct field of vision, is easily legible, and the colors are compliant and in contrast to the background of the text.”

2. Ford highlights that the ISO/ECE telltale is featured alongside the required “BRAKE” telltale text in the owner's manual. Ford references and provides images from the owner's manuals included with each vehicle to demonstrate this claim. Ford suggests that even if drivers do “not recognize (the ISO/ECE compliant) regulatory symbol, the owner's manual clarifies the symbol's meaning. Ford also argues that the fact that the symbol is “universally recognized” and defined in the owner's manual, using the ISO/ECE symbol on the instrument panel instead of the FMVSS mandated “BRAKE” telltale does not pose any additional risk to public safety.

3. Ford states that the vehicle's information display prominently shows pop-up messages and makes an audible chime alongside the telltale that alerts the driver to issues related to the brake system. This display popup is intended to give additional information about any malfunctions in the brake system, that cannot be conveyed with a simple telltale; it displays messages such as: “Park Brake On”, “Brake Fluid Level Low”, etc. Ford believes that the message on the display, along with the chime, will mitigate any potential confusion by the driver that the ISO/ECE symbol telltale is related to issues with the brake system.

4. Ford reports that it is not aware of any reports of crashes, injuries, or deaths that might be related to this particular noncompliance nor for this condition as a whole. While Ford recognizes that a lack of reports of injury does not guarantee future safety in all cases, Ford believes that this clearly illustrates that drivers are not confused by the use of the ISO/ECE brake telltale instead of the FMVSS compliant telltale.

5. Ford lists a number of petitions for inconsequential noncompliance granted by NHTSA that it believes are substantively similar to this petition:

a. A 2017 petition submitted by Porsche Cars North America, Inc., for Porsche 911 vehicles that used the ISO/ECE symbol instead of the required “BRAKE” text was granted by NHTSA after Porsche noted that the vehicles had described the symbol in the owner's manual, there was a chime and message on the display, and there were no known complaints of injuries related to this condition. (82 FR 4976, October 25, 2017).

b. A 2014 petition submitted by Chrysler Group, LLC, for Jeep and Dodge vehicles using the ISO/ECE symbol instead of the “BRAKE” text was granted by NHTSA after Chrysler argued that the symbol is listed in the owner's manual, the presence of redundant warning systems, and the lack of reported incidents. (79 FR 78559, December 30, 2014.)

c. A petition submitted by General Motors in 2012 for Chevrolet and Buick vehicles that used the ISO/ECE symbol for the parking brake instead of the “BRAKE” text was granted by NHTSA after GM pointed out that the vehicles had redundant warning systems, automatic release of the parking brake, and the lack of reported incidents relating to the condition. (79 FR 9041, February 14, 2014.)

d. Another petition was submitted by General Motors in 2016 for Cadillac vehicles that used the FMVSS mandated “PARK” telltale, but the height of the lettering was insufficient. The petition was granted by NHTSA on the grounds that these vehicles had redundant warning systems, automatic release of the parking brake, and the lack of reported incidents relating to the condition. (81 FR 92963, December 20, 2016.)

Ford argues that the NHTSA should grant this petition for inconsequential noncompliance because it has already set a precedent by granting the above listed similar petitions.

Ford finishes by reiterating and summarizing the arguments listed above. Ford believes that NHTSA should grant its petition because the existing telltales in these vehicles otherwise conform to FMVSS requirements, the meaning of the nonconforming symbol is clearly described in the owner's manual, there are redundant notification systems that will alert the driver of issues with the braking system, there are no know reports of crashes or injuries related to this issue, and finally that NHTSA has granted similar petitions in the past.

Ford concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Ford no longer controlled at the time it determined that the noncompliance existed. However, any decision on this petition does not relieve vehicle distributors and dealers of the prohibitions on the sale, offer for sale, or introduction or delivery for introduction into interstate commerce of the noncompliant vehicles under their control after Ford notified them that the subject noncompliance existed.

(Authority: 49 U.S.C. 30118, 30120: delegations of authority at 49 CFR 1.95 and 501.8)

Otto G. Matheke III,
Director, Office of Vehicle Safety Compliance.

[FR Doc. 2025-14475 Filed 7-30-25; 8:45 am]

BILLING CODE 4910-59-P